ENVIRONMENTAL PROTECTION AGENCY

[EPA-HQ-OECA-2005-0035; FRL-8175-3]

Agency Information Collection Activities; Submission to OMB for Review and Approval; Comment Request; NESHAP for Publicly Owned Treatment Works (Renewal), EPA ICR Number 1891.04, OMB Control Number 2060-0428

Agency: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on or before June 29, 2006.

ADDRESSES: Submit your comments, referencing docket ID number EPA-HQ-OECA-2005-0035, to (1) EPA online using http://www.regulations.gov (our preferred method), or by e-mail to docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Gregory Fried, MC-2223A, Office of Compliance, Environmental Protection Agency, 1200 Pennsylvania Avenue, NW., Washington, DC 20460; telephone number: (202) 564-7016; fax number: (202) 564-0050; e-mail address: fried.gregory@epa.gov.

SUPPLEMENTARY INFORMATION: EPA has submitted the following ICR to OMB for review and approval according to the procedures prescribed in 5 CFR 1320.12. On May 6, 2005, (70 FR 24020), EPA sought comments on this ICR pursuant to 5 CFR 1320.8(d). EPA received no comments. Any additional comments on this ICR should be submitted to EPA and OMB within 30 days of this notice.

EPA has established a public docket for this ICR under docket ID number EPA-HQ-OECA-2005-0035, which is available for public viewing online at http://www.regulations.gov, in person viewing at the Enforcement and Compliance Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov, as EPA receives them and without change, unless the comment contains copyrighted material, CBI, or other information whose public disclosure is restricted by statute. For further information about the electronic docket, go to http://www.regulations.gov.

Title: NESHAP for Publicly Owned Treatment Works (Renewal).

ICR Numbers: EPA ICR Number 1891.04, OMB Control Number 2060-0428.

ICR Status: This ICR is scheduled to expire on May 31, 2006. Under OMB regulations, the Agency may continue to conduct or sponsor the collection of information while this submission is pending at OMB. An Agency may not conduct or sponsor, and a person is not required to respond to, a collection of information unless it displays a currently valid OMB control number. The OMB control numbers for EPA's regulations in title 40 of the CFR, after appearing in the Federal Register when approved, are listed in 40 CFR part 9, and displayed either by publication in the Federal Register or by other appropriate means, such as on the related collection instrument or form, if applicable. The display of OMB control numbers in certain EPA regulations is consolidated in 40 CFR part 9.

Abstract: Respondents subject to subpart VVV are owners or operators of waste water treatment processes and operations in the publicly owned treatment works (POTW) source category.

All “new” sources must be in compliance with the subpart VVV upon startup or the promulgation date, whichever is later. Owners and operators of affected sources are subject to the requirements of 40 CFR Part 63, Subpart A, the General Provisions, unless the regulation specifies otherwise.

For “new” sources constructed or reconstructed after the effective date of the relevant standard, subpart VVV requires that the source submit an application for approval of construction or reconstruction. The application is required to contain information on the air pollution control that will be used for each potential HAP emission point.

The information in the initial notification and the application for construction or reconstruction will enable enforcement personnel to identify the number of sources subject to the standards and to identify those sources that are already in compliance.

Generally, respondents are required to submit one-time reports of (1) start of construction for new facilities and (2) anticipated and actual start-up dates for new facilities. All records are to be maintained by the source for a period of at least five years.

The subpart VVV also requires “new” affected sources to submit a notification of compliance status. This notification must be signed by a responsible company official who certifies its accuracy and certifies that the source has complied with the standards. The notification of compliance status must be submitted within 180 days after the compliance date for the affected source.

Emission and control requirements for “existing” industrial POTWs are specified by the appropriate NESHAP(s) for the industrial user. In addition, there are no control requirements for “existing” non-industrial POTW treatment plants. Therefore, there are no subpart VVV recordkeeping or reporting requirements for “existing” sources covered by this ICR.

Burden Statement: The annual public reporting and recordkeeping burden for this collection of information is estimated to average 1.15 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners or operators of publicly owned treatment works.

Estimated Number of Respondents: 6.

Frequency of Response: Initial, on occasion, semiannual and annual.

Estimated Total Annual Hour Burdens: 14.

Estimated Total Annual Cost: There are no annualized capital or O&M costs.

Changes in the Estimates: There is a decrease of 202 hours in the total estimated burden currently identified in the OMB Inventory of Approved ICR Burdens. This decrease is due to a correction. It is assumed that there are six (6) affected sources subject to subpart VVV, all of which are “existing” sources. Existing sources are only required to submit semiannual reports. The previous ICR also included burden associated with developing a design analysis and recordkeeping associated with equipment inspection and equipment monitoring, which are not required for existing sources.

Dated: May 17, 2005.
Oscar Morales,
Director, Collection Strategies Division.

[FR Doc. E6-8306 Filed 5-26-06; 8:45 am]

BILLING CODE 6560-50-P